DEPARTMENT OF TRANSPORTATION

Federal Aviation Administration

14 CFR Part 39

[Docket No. FAA-2007-28882; Directorate Identifier 2007-NM-035-AD]

RIN 2120-AA64

Airworthiness Directives; Goodrich Evacuation Systems Approved Under Technical Standard Order (TSO) TSO-C69b and Installed on Airbus Model A330-200 and -300 Series Airplanes, Model A340-200 and -300 Series Airplanes, and Model A340-541 and -642 Airplanes

AGENCY: Federal Aviation Administration (FAA), Department of Transportation (DOT).

ACTION: Notice of proposed rulemaking (NPRM).

SUMMARY: The FAA proposes to supersede an existing airworthiness directive (AD) that applies to Goodrich evacuation systems approved under TSO-C69b and installed on certain Airbus Model A330-200 and -300 series airplanes, Model A340-200 and -300 series airplanes, and Model A340-541 and -642 airplanes. The existing AD currently requires inspecting to determine the part number of the pressure relief valves on the affected Goodrich evacuation systems, and corrective action if necessary. For certain airplanes, this proposed AD would require an additional inspection to determine the part number of the pressure relief valves, and corrective action if necessary. This proposed AD results from a report indicating that, during maintenance testing, the pressure relief valves on the affected Goodrich evacuation systems did not seal when activated, which caused the pressure in the escape slide/raft to drop below the minimum allowable raft mode pressure. We are proposing this AD to prevent loss of pressure in the escape slides/rafts after an emergency evacuation, which could result in inadequate buoyancy to support the raft's passenger capacity during ditching, and increase the chance for injury to raft passengers.

DATES: We must receive comments on this proposed AD by September 20, 2007.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: U.S. Department of Transportation, Docket Operations, M-30, West Building Ground Floor, Room W12-140, 1200 New Jersey Avenue, SE., Washington, DC 20590.

• Fax: (202) 493-2251.

• Hand Delivery: Room W12-140 on the ground floor of the West Building, 1200 New Jersey Avenue, SE., Washington, DC, between 9 a.m. and 5 p.m., Monday through Friday, except Federal holidays.

Contact Goodrich, Aircraft Interior Products, ATTN: Technical Publications, 3414 South Fifth Street, Phoenix, AZ 85040, for service information identified in this proposed AD.

FOR FURTHER INFORMATION CONTACT: Tracy Ton, Aerospace Engineer, Cabin Safety/Mechanical and Environmental Systems Branch, ANM-150L, FAA, Los Angeles Aircraft Certification Office, 3960 Paramount Boulevard, Lakewood, California 90712-4137; telephone (562) 627-5352; fax (562) 627-5210.

SUPPLEMENTARY INFORMATION:

Comments Invited

We invite you to submit any relevant written data, views, or arguments regarding this proposed AD. Send your comments to an address listed in the ADDRESSES section. Include the docket number “Docket No. FAA-2007-28882; Directorate Identifier 2007-NM-035-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed AD. Using the search function of that Web site, anyone can find and read the comments in any of our dockets, including the name of the individual who sent the comment (or signed the comment on behalf of an association, business, labor union, etc.). You may review the DOT's complete Privacy Act Statement in the Federal Register published on April 11, 2000 (65 FR 19477-78), or may can visit http://dms.dot.gov.

Examining the Docket

You may examine the AD docket on the Internet at http://dms.dot.gov, or in person at the Docket Operations office between 9 a.m. and 5 p.m., Monday through Friday, except Federal holidays. The Docket Operations office (telephone (800) 647-5527) is located on the ground floor of the West Building at the DOT street address stated in the ADDRESSES section. Comments will be available in the AD docket shortly after the Docket Management System receives them.

Discussion

On May 31, 2006, we issued AD 2006-12-08, amendment 39-14633 (71 FR 33606, June 12, 2006), for Goodrich evacuation systems approved under TSO-C69b and installed on certain Airbus Model A330-200 and -300 series airplanes, Model A340-200 and -300 series airplanes, and Model A340-541 and -642 airplanes. [A correction of that AD was published in the Federal Register on June 28, 2006 (71 FR 36674).] That AD requires inspecting to determine the part number of the pressure relief valves on the affected Goodrich evacuation systems, and corrective action if necessary. That AD resulted from a report indicating that, during maintenance testing, the pressure relief valves on the affected Goodrich evacuation systems did not seal when activated, which caused the pressure in the escape slide/raft to drop below the minimum allowable raft mode pressure. We issued that AD to prevent loss of pressure in the escape slides/rafts after an emergency evacuation, which could result in inadequate buoyancy to support the raft's passenger capacity during ditching, and increase the chance for injury to raft passengers.

Relevant Service Information

We have reviewed Goodrich Service Bulletin 25-355, Revision 1, dated July 24, 2006 (Goodrich Service Bulletin 25-355, dated July 25, 2005, was referred to as the appropriate source of service information for accomplishing the required actions specified in AD 2006-12-08). The procedures in Revision 1 of the service bulletin are essentially the same as the original except Revision 1 adds the following inspection for certain airplanes: For Model A340-500 airplanes having evacuation system part number (P/N) 4A3928-( ), inspect for pressure relief valve P/N 4A3791-6 and replace with P/N 4A3641-26 if necessary.

Revision 1 of the service bulletin also corrects certain serial numbers and part numbers specified in the tables in paragraph 1.A. Effectivity of the service bulletin.

Accomplishing the actions specified in the service information is intended to adequately address the unsafe condition.

Clarification of Alternative Method of Compliance (AMOC) Paragraph

We have revised this action to clarify the appropriate procedure for notifying the principal inspector before using any approved AMOC on any airplane to which the AMOC applies.

FAA's Determination and Requirements of the Proposed AD

We have evaluated all pertinent information and identified an unsafe condition that is likely to develop on other airplanes of the same type design. For this reason, we are proposing this AD, which would supersede AD 2006-12-08 and would retain the requirements of the existing AD. For certain airplanes, this proposed AD would also require an additional inspection to identify a different pressure relief valve and corrective action if necessary.

Costs of Compliance

There are about 689 airplanes of the affected design in the worldwide fleet. This proposed AD would affect about 27 airplanes of U.S. registry.

The actions that are required by AD 2006-12-08 and retained in this proposed AD take about 1 work hour per airplane, at an average labor rate of $80 per work hour. Based on these figures, the estimated cost of the currently required actions is $2,160, or $80 per airplane.

All airplanes affected by the new proposed action are currently operated by non-U.S. operators under foreign registry. If an affected airplane is imported and placed on the U.S. Register in the future, the new proposed actions would take about 1 work hour per airplane, at an average labor rate of $80 per work hour. Based on these figures, the estimated cost of the new actions specified in this proposed AD for U.S. operators is $80 per airplane.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by removing amendment 39-14633 (71 FR 33606, June 12, 2006) corrected at 71 FR 36674, June 28, 2006, and adding the following new airworthiness directive (AD):

Goodrich (Formerly BF Goodrich): Docket No. FAA-2007-28882; Directorate Identifier 2007-NM-035-AD.

Comments Due Date

(a) The FAA must receive comments on this AD action by September 20, 2007.

Affected ADs

(b) This AD supersedes AD 2006-12-08.

Applicability

(c) This AD applies to Goodrich Evacuation Systems Approved Under Technical Standard Order (TSO) TSO-C69b, as installed on Airbus Model A330-201, -202, -203, -223, -243, -301, -321, -322, -323, -341, -342, and -343 airplanes; Model A340-211, -212, -213, -311, -312, and -313 airplanes; and Model A340-541 and -642 airplanes; certificated in any category.

Unsafe Condition

(d) This AD results from a report indicating that, during maintenance testing, the pressure relief valves on the affected Goodrich evacuation systems did not seal when activated, which caused the pressure in the escape slide/raft to drop below the minimum allowable raft mode pressure. We are issuing this AD to prevent loss of pressure in the escape slides/rafts after an emergency evacuation, which could result in inadequate buoyancy to support the raft's passenger capacity during ditching, and increase the chance for injury to raft passengers.

Compliance

(e) You are responsible for having the actions required by this AD performed within the compliance times specified, unless the actions have already been done.

Restatement of Requirements of AD 2006-12-08

Inspection for Certain Part Number (P/N)

(f) For all airplanes: Within 36 months after July 17, 2006 (the effective date of AD 2006-12-08): Perform an inspection to determine the part number (P/N) of the pressure relief valve on the Goodrich evacuation systems in accordance with the Accomplishment Instructions of Goodrich Service Bulletin 25-355, dated July 25, 2005, or Goodrich Service Bulletin 25-355, Revision 1, dated July 24, 2006. After the effective date of this AD, only Goodrich Service Bulletin 25-355, Revision 1, dated July 24, 2006, may be used.

(1) If any pressure relief valve having P/N 4A3791-3 is installed, before further flight, replace the valve with a new or serviceable valve having P/N 4A3641-1 and mark the girt adjacent to the placard, in accordance with the Accomplishment Instructions of the service bulletin.

(2) If any pressure release valve having P/N 4A3641-1 is installed, before further flight, mark the girt adjacent to the placard in accordance with the Accomplishment Instructions of the service bulletin.

Part Installation for Airplanes Identified in Original Issue of the Service Bulletin

(g) As of July 17, 2006, no person may install a pressure relief valve having P/N 4A3791-3, on any airplane equipped with Goodrich evacuation systems identified in Goodrich Service Bulletin 25-355, dated July 25, 2005.

New Requirements of This AD

Inspection for Certain Other P/N

(h) For Model A340-541 airplanes: Within 36 months after the effective date of this AD, perform an inspection to determine the P/N of the pressure relief valve on the Goodrich evacuation systems in accordance with the Accomplishment Instructions of Goodrich Service Bulletin 25-355, Revision 1, dated July 24, 2006.

(1) If any pressure relief valve having P/N 4A3791-6 is installed, before further flight, replace the valve with a new or serviceable valve having P/N 4A3641-26 and mark the girt adjacent to the placard, in accordance with the Accomplishment Instructions of the service bulletin.

(2) If any pressure release valve having P/N 4A3641-26 is installed, before further flight, mark the girt adjacent to the placard in accordance with the Accomplishment Instructions of the service bulletin.

Parts Installation for All Airplanes

(i) As of the effective date of this AD, no person may install a pressure relief valve having P/N 4A3791-3, on any airplane equipped with Goodrich evacuation systems identified in Goodrich Service Bulletin 25-355, Revision 1, dated July 24, 2006.

(j) As of the effective date of this AD, no person may install a pressure relief valve having P/N 4A3791-6, on any airplane equipped with Goodrich evacuation systems identified in Goodrich Service Bulletin 25-355, Revision 1, dated July 24, 2006.

Alternative Methods of Compliance (AMOCs)

(k)(1) The Manager, Los Angeles Aircraft Certification Office (ACO), FAA, has the authority to approve AMOCs for this AD, if requested in accordance with the procedures found in 14 CFR 39.19.

(2) To request a different method of compliance or a different compliance time for this AD, follow the procedures in 14 CFR 39.19. Before using any approved AMOC on any airplane to which the AMOC applies, notify your appropriate principal inspector (PI) in the FAA Flight Standards District Office (FSDO), or lacking a PI, your local FSDO.

(3) AMOCs approved previously in accordance with AD 2006-12-08 are approved as AMOCs for the corresponding provisions of this AD.

Issued in Renton, Washington, on July 30, 2007.
Ali Bahrami,
Manager, Transport Airplane Directorate, Aircraft Certification Service.

[FR Doc. E7-15222 Filed 8-3-07; 8:45 am]

BILLING CODE 4910-13-P